DEPARTMENT OF TRANSPORTATION

Federal Aviation Administration

14 CFR Part 47

[Docket No. FAA-2022-1514; Amdt. No. 47-33A]

RIN 2120-AL45

Increase the Duration of Aircraft Registration; Confirmation of Effective Date and Correction

AGENCY: Federal Aviation Administration (FAA), U.S. Department of Transportation (DOT).

ACTION: Direct final rule; confirmation of effective date and correction.

SUMMARY: This action confirms the January 23, 2023, effective date of the Increase the Duration of Aircraft Registration direct final rule published on November 22, 2022, and responds to public comments received regarding the published rule. The direct final rule extends the duration of aircraft registration certificates from three years to seven years. Initial Certificates of Aircraft Registration will expire seven years from the month issued. The FAA is applying this amendment to all aircraft currently registered under existing FAA regulations governing aircraft registration, which will extend valid Certificates of Aircraft Registration to a seven-year duration. This rulemaking also makes other minor revisions to rules related to internal FAA registration processes.

DATES: The effective date of January 23, 2023, for the direct final rule published November 22, 2022 (87 FR 71210) is confirmed. The correction to 14 CFR 47.31 is effective January 23, 2023.

ADDRESSES: For information on where to obtain copies of rulemaking documents and other information related to this action, see Section III of the SUPPLEMENTARY INFORMATION section of this document.

FOR FURTHER INFORMATION CONTACT: Bonnie Lefko, Program Analyst, Civil Aviation Registry, FAA Aircraft Registration Branch, Federal Aviation Administration, P.O. Box 25504, Oklahoma City, OK 73125; telephone 405-954-3131; email FAA.Aircraft.Registry@faa.gov.

SUPPLEMENTARY INFORMATION:

I. Background

This action confirms the effective date of the Increase the Duration of Aircraft Registration direct final rule ¹ and provides FAA's response to the public comments. The direct final rule amends the duration of all Certificates of Aircraft Registration (certificates) issued under part 47 of Title 14 of the Code of Federal Regulations (14 CFR) from three years to seven years. Aircraft owners will be required to confirm their registration information and renew their certificate every seven years, unless an event or circumstance necessitates a new registration being submitted prior to the expiration of the certificate. Accordingly, the direct final rule adds a paragraph to § 47.40 to require aircraft owners to submit new registration forms to update their certificates prior to the seven-year expiration date if the Administrator determines that their registration information is inaccurate. These amendments apply to initial and renewed certificates, in accordance with § 47.40(b) and (c).

¹ Increase the Duration of Aircraft Registration direct final rule, 87 FR 71210 (Nov. 22, 2022).

The FAA also corrects its amendment to 14 CFR 47.31(c)(1) to remove the requirement that the FAA issue a letter extending the temporary authority for an aircraft to operate when a certificate of aircraft registration has not been issued or denied within 90 days after the date the application was signed.

The FAA is also removing expired regulations pertaining to the re-registration requirement detailed in § 47.40(a) and references to re-registration in §§ 47.15(i)(1) and 47.17(a)(7). The re-registration regulations became obsolete January 1, 2014.

II. Discussion of Comments

The FAA received a total of twelve comments in response to the published direct final rule. Commenters included Airlines for America (A4A), Aircraft Owners and Pilots Association (AOPA), National Business Aviation Association (NBAA), and nine individuals. Six individual commenters supported the direct final rule without change. Three individuals expressed alternative approaches to the duration of aircraft registration. However, the FAA has determined that those three comments are outside of the scope of the rulemaking because this rulemaking was solely in response to the statutory requirement contained in Sec. 556, which requires a seven-year duration of aircraft registration. For reasons described in the direct final rule, the FAA does not distinguish between non-commercial general aviation aircraft and commercial aircraft because that distinction could change from one operation to the next. Accordingly, this rule merely effectuates a statutory requirement. Because those three comments are outside of the scope of the rulemaking, the FAA does not consider them to be adverse comments. Regarding comments about implementation, the FAA will provide follow-on information explaining how the FAA will effectuate this rule for existing aircraft registrations.

The NBAA recommended a technical correction regarding a misplaced comma in the regulatory text of 14 CFR 47.31. The FAA agrees with NBAA that a correction is necessary, and has revised the sentence to remove the misplaced comma, as indicated in the correction included in this document. After consideration of the comments submitted in response to the Increase the Duration of Aircraft Registration direct final rule, the FAA has determined that no further rulemaking action is necessary. Therefore, the direct final rule published November 22, 2022 at 87 FR 71210, Amendment No. 47-33, will become effective January 23, 2023. The FAA is making one typographical correction as noted previously.

III. How To Obtain Additional Information

A copy of this confirmation document, the direct final rule, all comments received, and all background material may be viewed online at https://www.regulations.gov using the docket number listed above. A copy of this confirmation document will be placed in the docket. Electronic retrieval help and guidelines are available on the website. It is available 24 hours each day, 365 days each year. An electronic copy of this document may also be downloaded from the Office of the Federal Register's website at https://www.federalregister.gov and the Government Publishing Office's website at https://www.govinfo.gov. A copy may also be found at the FAA's Regulations and Policies website at https://www.faa.gov/regulations_policies.

Copies may also be obtained by sending a request to the Federal Aviation Administration, Office of Rulemaking, ARM-1, 800 Independence Avenue SW, Washington, DC 20591, or by calling (202) 267-9677. Interested persons must identify the docket or amendment number of this rulemaking.

All documents the FAA considered in developing this rule, including economic analyses and technical reports, may be accessed in the electronic docket for this rulemaking.

Federal Register Correction

In FR Doc. 2022-25289, appearing at 87 FR 71210 in the issue of Tuesday, November 22, 2022, on page 71217, in the third column, in amendatory instruction 4, § 47.31(c)(1) is corrected to read as follows:

§ 47.31 [Corrected]

* * * * *

(c) * * *

(1) This temporary authority is valid for operation within the United States until the date the applicant receives the Certificate of Aircraft Registration or until the date the FAA denies the application, or as provided by paragraph (c)(2) of this section.

* * * * *

Issued under authority provided by 49 U.S.C. 106(f), 44701(a), and 44703 in Washington, DC, on January 11, 2023.
Brandon Roberts,
Executive Director, Office of Rulemaking.

[FR Doc. 2023-00794 Filed 1-17-23; 8:45 am]

BILLING CODE 4910-13-P